DEPARTMENT OF COMMERCE

National Oceanic and Atmospheric Administration

[I.D. 051206A]

Marine Mammals; File No. 945-1776

AGENCY: National Marine Fisheries Service (NMFS), National Oceanic and Atmospheric Administration (NOAA), Commerce.

ACTION: Notice; issuance of permit.

SUMMARY: Notice is hereby given that Glacier Bay National Park and Preserve (Christine M. Gabriele, Principal Investigator) P.O. Box 140, Gustavus, AK 99826, (File No. 945-1776) has been issued a permit to conduct scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

FOR FURTHER INFORMATION CONTACT: Carrie Hubard or Amy Hapeman, (301)713-2289.

SUPPLEMENTARY INFORMATION: On February 17, 2005, notice was published in the Federal Register (70 FR 8076) that a request for a scientific research permit to take marine mammals had been submitted by the above-named organization. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Permit No. 945-1776 authorizes Glacier Bay National Park and Preserve to conduct population studies on numerous cetacean species with a particular emphasis on humpback (Megaptera novaeangliae), minke (Balaenoptera acutorostrata), and killer whales (Orcinus orca). Takes will occur by close approach via vessel survey for photo-identification, behavioral observation, passive acoustic recording, collection of sloughed skin and feces, prey sampling, and incidental harassment. The permit is valid for five years.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Dated: May 23, 2006.
P. Michael Payne,
Chief, Permits, Conservation and Education Division, Office of Protected Resources, National Marine Fisheries Service.

[FR Doc. E6-8174 Filed 5-25-06; 8:45 am]

BILLING CODE 3510-22-S